INTERNATIONAL TRADE COMMISSION

[USITC SE-18-023]

Government in the Sunshine Act Meeting Notice

Agency Holding the Meeting: United States International Trade Commission.

Time and Date: May 11, 2018 at 11:00 a.m.

Place: Room 101, 500 E Street SW, Washington, DC 20436 Telephone: (202) 205-2000.

Status: Open to the public.

Matters to be Considered:

1. Agendas for future meetings: None.

2. Minutes.

3. Ratification List.

4. Vote in Inv. Nos. 701-TA-603-605 and 731-TA-1413-1415 (Preliminary) (Glycine from China, India, Japan, and Thailand). The Commission is currently scheduled to complete and file its determinations on May 14, 2018; views of the Commission are currently scheduled to be completed and filed on May 21, 2018.

5. Vote in Inv. Nos. 731-TA-1360 and 1361 (Final) (Tool Chests and Cabinets from China and Vietnam). The Commission is currently scheduled to complete and file its determinations and views of the Commission by May 24, 2018.

6. Vote in Inv. No. 701-TA-585 (Final) (Stainless Steel Flanges from China). The Commission is currently scheduled to complete and file it determination and views of the Commission by May 29, 2018.

7. Outstanding action jackets: None.

In accordance with Commission policy, subject matter listed above, not disposed of at the scheduled meeting, may be carried over to the agenda of the following meeting.

By order of the Commission.
Issued: May 1, 2018.
William Bishop,
Supervisory Hearings and Information Officer.

[FR Doc. 2018-09586 Filed 5-2-18; 11:15 am]

BILLING CODE 7020-02-P